FEDERAL ELECTION COMMISSION

Sunshine Act Notices; Meeting

AGENCY: Federal Election Commission

* * * * *

Date and Time: Tuesday, November 28, 2000 at 10:00 a.m.

Place: 999 E Street, NW., Washington, DC.

Status: This meeting will be closed to the public.

Items to be Discussed: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

* * * * *

Date and Time: Thursday, November 30, 2000 at 10:00 a.m.

Place: 999 E Street, NW., Washington, DC (ninth floor)

Status: This meeting will be open to the public.

Items to be Discussed: Correction and Approval of Minutes.

Draft Advisory Opinion 2000-32; U.S. Representative Matthew G. Martinez.

Draft Advisory Opinion 2000-35: Green Party of Washington State by Theodore Schlagel, Treasurer.

Final Rules and Explanation and Justification on General Public Political Communications Coordinated with Candidates, and Independent Expenditures.

Administrative Matters.

Person to Contact for Information: Mr. Ron. Harris, Press Officer; Telephone: (202) 694-1220.

Mary W. Dove,
Acting Secretary of the Commission.

[FR Doc. 00-30091 Filed 11-21-00; 11:42 am]

BILLING CODE 6715-01-M